DEPARTMENT OF TRANSPORTATION

National Highway Traffic Safety Administration

[Docket No. NHTSA-2016-0107; Notice 2]

The Goodyear Tire & Rubber Company, Grant of Petition for Decision of Inconsequential Noncompliance

AGENCY: National Highway Traffic Safety Administration (NHTSA), Department of Transportation (DOT).

ACTION: Grant of petition.

SUMMARY: The Goodyear Tire & Rubber Company (Goodyear), has determined that certain Goodyear tires do not fully comply with Federal Motor Vehicle Safety Standard (FMVSS) No. 119, New pneumatic tires for motor vehicles with a GVWR of more than 4,536 kilograms (10,000 pounds) and motorcycles. Goodyear filed a noncompliance report dated September 27, 2016. Goodyear then petitioned NHTSA on September 27, 2016, for a decision that the subject noncompliance is inconsequential as it relates to motor vehicle safety.

ADDRESSES: For further information on this decision contact Abraham Diaz, Office of Vehicle Safety Compliance, the National Highway Traffic Safety Administration (NHTSA), telephone (202) 366-5310, facsimile (202) 366-5930.

SUPPLEMENTARY INFORMATION:

I. Overview: The Goodyear Tire & Rubber Company (Goodyear), has determined that certain Goodyear tires do not fully comply with paragraph S6.5(f) of Federal Motor Vehicle Safety Standard (FMVSS) No. 119, New pneumatic tires for motor vehicles with a GVWR of more than 4,536 kilograms (10,000 pounds) and motorcycles. Goodyear filed a noncompliance report dated September 27, 2016, pursuant to 49 CFR part 573, Defect and Noncompliance Responsibility and Reports. Goodyear then petitioned NHTSA on September 27, 2016, pursuant to 49 U.S.C. 30118(d) and 30120(h) and their implementing regulations at 49 CFR part 556, for an exemption from the notification and remedy requirements of 49 U.S.C. Chapter 301 on the basis that this noncompliance is inconsequential as it relates to motor vehicle safety.

Notice of receipt of the petition was published, with a 30-day public comment period, on November 14, 2016 in the Federal Register (81 FR 79557). No comments were received. To view the petition and all supporting documents log onto the Federal Docket Management System (FDMS) Web site at: http://www.regulations.gov/. Then follow the online search instructions to locate docket number “NHTSA-2016-0107.”

II. Tires Involved: Affected are approximately 381 Goodyear G182 RSD size 11R22.5 LR G commercial truck tires manufactured between July 3, 2016, and August 20, 2016.

III. Noncompliance: Goodyear explains that because the sidewall markings on the reference side of the subject tires incorrectly identify the number of plies as “TREAD 4 PLIES STEEL CORD” instead of the correct labeling “TREAD 5 PLIES STEEL CORD,” the tires do not meet the requirements of paragraph S6.5(f) of FMVSS No. 119.

IV. Rule Text: Paragraph S6.5(f) of FMVSS No. 119 provides, in pertinent part:

S6.5 Tire markings. Except as specified in this paragraph, each tire shall be marked on each sidewall with the information specified in paragraphs (a) through (j) of this section . . .

(f) The actual number of plies and the composition of the ply cord material in the sidewall and, if different, in the tread area; . . .

V. Summary of Goodyear's Petition: Goodyear described the subject noncompliance and stated its belief that the noncompliance is inconsequential as it relates to motor vehicle safety.

In support of its petition, Goodyear submitted the following:

Goodyear believes this noncompliance is inconsequential to motor vehicle safety because these tires were manufactured as designed and meet or exceed all applicable Federal Motor Vehicles Safety performance standards. All of the sidewall markings related to tire service (load capacity, corresponding inflation pressure, etc.) are correct. Even though the tires were labeled incorrectly as “TREAD 4 PLIES STEEL CORD” on one side of the tires, the tires were manufactured with “TREAD 5 PLIES STEEL CORD”, which is correctly marked on the opposite tire sidewall. The mislabeling of these tires is not a safety concern and also has no impact on the retreading and recycling industries. The affected tire mold has already been corrected and all future production will have the correct number of plies shown on both sidewalls.

Goodyear noted that NHTSA has previously granted petitions for the same noncompliance related to tire construction information on tires because of surveys that show most consumers do not base purchases on tire construction information found on the tire sidewall.

Goodyear concluded by expressing the belief that the subject noncompliance is inconsequential as it relates to motor vehicle safety, and that its petition to be exempted from providing notification of the noncompliance, as required by 49 U.S.C. 30118, and a remedy for the noncompliance, as required by 49 U.S.C. 30120, should be granted.

NHTSA's Decision:

NHTSA's Analysis: The agency agrees with Goodyear that the noncompliance is inconsequential to motor vehicle safety. The agency believes that one measure of inconsequentiality to motor vehicle safety is that there is no effect of the noncompliance on the operational safety of vehicles on which these tires are mounted. Another measure of inconsequentiality which is relevant to this petition is the safety of people working in the tire retread, repair and recycling industries.

Although tire construction affects the strength and durability of tires, neither the agency nor the tire industry provides information relating tire strength and durability to the number of plies and types of ply cord material in the tread sidewall. Therefore, tire dealers and customers should consider the tire construction information along with other information such as the load capacity, maximum inflation pressure, and tread wear, temperature, and traction ratings, to assess performance capabilities of various tires. In the agency's judgement, the incorrect labeling of the tire construction information will have an inconsequential effect on motor vehicle safety because most consumers do not base tire purchases or vehicle operation parameters on the number of plies in a tire.

The agency also believes the noncompliance will have no measureable effect on the safety of the tire retread, repair, and recycling industries. The use of steel cord construction in the sidewall and tread is the primary safety concern of these industries. In this case, because of the sidewall marking indicate that some steel plies exist in the tire sidewall, this potential safety concern does not exist.

NHTSA's Decision: In consideration of the foregoing, NHTSA finds that Goodyear has met its burden of persuasion that the subject FMVSS No. 119 noncompliance in the affected tires is inconsequential to motor vehicle safety. Accordingly, Goodyear's petition is hereby granted and Goodyear is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject tires that Goodyear no longer controlled at the time it determined that the noncompliance existed. However, the granting of this petition does not relieve equipment distributors and dealers from the prohibitions on the sale, offer for sale, or introduction or delivery for introduction into interstate commerce of the noncompliant tires under their control after Goodyear notified them that the subject noncompliance exists.

Authority: (49 U.S.C. 30118, 30120: delegations of authority at 49 CFR 1.95 and 501.8)

Jeffrey M. Giuseppe,
Director, Office of Vehicle Safety Compliance.

[FR Doc. 2017-07615 Filed 4-14-17; 8:45 am]

BILLING CODE 4910-59-P